GENERAL SERVICES ADMINISTRATION

[OMB Control No. 3090-0285; Docket 2012-0001; Sequence 17]

Agency Information Collection Activities; Information Collection; IT Dashboard Feedback Mechanism

AGENCY: Office of Innovative Technology Services and Solutions, Office of Citizen Services and Innovative Technologies, U.S. General Services Administration (GSA).

ACTION: Notice of request for public comments regarding an existing OMB clearance.

SUMMARY: Under the provisions of the Paperwork Reduction Act, the General Services Administration will be submitting to the Office of Management and Budget (OMB) a request to review and approve a previously approved information collection requirement regarding IT Dashboard Feedback Mechanism.

DATES: Submit comments on or before April 29, 2013.

ADDRESSES: Submit comments identified by Information Collection 3090-0285, IT Dashboard Feedback Mechanism, by any of the following methods:

• Regulations.gov: http://www.regulations.gov. Submit comments via the Federal eRulemaking portal by searching the OMB control number. Select the link “Submit a Comment” that corresponds with “Information Collection 3090-0285, IT Dashboard Feedback Mechanism”. Follow the instructions provided at the “Submit a Comment” screen. Please include your name, company name (if any), and “Information Collection 3090-0285, IT Dashboard Feedback Mechanism” on your attached document.

• Fax: 202-501-4067.

• Mail: General Services Administration, Regulatory Secretariat (MVCB), 1275 First Street NE., Washington, DC 20417. ATTN: Hada Flowers/IC 3090-0285, USA Spending/IT Dashboard Feedback Mechanism.

Instructions: Please submit comments only and cite Information Collection 3090-0285, IT Dashboard Feedback Mechanism, in all correspondence related to this collection. All comments received will be posted without change to http://www.regulations.gov, including any personal and/or business confidential information provided.

FOR FURTHER INFORMATION CONTACT: Lalit Bajaj, Program Manager, Office of Innovative Technology Services and Solutions, Office of Citizen Services and Innovative Technologies, 1275 First Street NE., Washington, DC 20002, telephone number 202-208-7887, or email at Lalit.Bajaj@gsa.gov.

SUPPLEMENTARY INFORMATION:

A. Purpose

The IT Dashboard Web site (itdashboard.gov) provides agencies and the public access to view details of Federal information technology investments online and to track their progress over time. The IT Dashboard displays IT budget data received from agencies through their Exhibit 53 and 300 submissions, including general information of over 7,000 federal IT investments and nearly 800 investments classified as major by the agencies.

B. Annual Reporting Burden

Number of Respondents: 1,000.

Responses per Respondent: 1.

Total Annual Responses: 1,000.

Average hours per response: 0.02.

Total Burden Hours: 20.

Obtaining Copies of Proposals: Requesters may obtain a copy of the information collection documents from the General Services Administration, Regulatory Secretariat (MVCB), 1275 First Street NE., Washington, DC 20417, telephone (202) 501-4755. Please cite OMB Control Number 3090-0285, IT Dashboard Feedback Mechanism, in all correspondence.

Dated: February 14, 2013.
Casey Coleman,
Chief Information Officer.

[FR Doc. 2013-04372 Filed 2-25-13; 8:45 am]

BILLING CODE 6820-34-P